DEPARTMENT OF AGRICULTURE

Forest Service

Ashland Ranger District Travel Management Planning, Custer National Forest; Powder River and Rosebud Counties, MT

AGENCY: Forest Service, USDA.

ACTION: Notice; intent to prepare environmental impact statement.

SUMMARY: The Forest Service plans to prepare an Environmental Impact Statement (EIS) to disclose the effects of designating National Forest System roads, trails, and areas available for public motorized use on the Ashland Ranger District (District), Custer National Forest. The decision will determine whether to add to or remove routes from the current network of National Forest System roads, trails, and areas for public motorized use on the District; designate the season of use and type of vehicle use for each road, trail, and area designated for public motorized use; and identify dispersed vehicle camping designations.

Once a decision is made, a Motor Vehicle Use Map (MVUM) will be prepared and distributed in compliance with the Forest Service's 2005 Motorized Travel Management Rule (36 CFR 212). The MVUM will show all routes and areas that are designated for public motorized use on the District. The MVUM will be the primary tool used for enforcement of motorized vehicle use designations on the ground. Those routes not designated on the MVUM will be legally closed to public motorized travel. This decision on motorized travel does not include motorized over-the-snow travel.

DATES: The draft environmental impact statement is planned to be released in October 2008 and the final environmental impact statement is planned for release in May 2009. The project was initially distributed for public scoping and comment November 26, 2007 through January 25, 2008.

ADDRESSES: Send written comments to Ashland Ranger District Travel Management Plan, Custer National Forest, 1310 Main Street, Billings, MT 59105 or call (406) 657-6205 extension 225.

If you prefer, you can submit comments on the Internet at comments-northern-custer-ashland@fs.fed.us by typing on the subject line “Ashland RD Travel Management Plan.”

FOR FURTHER INFORMATION CONTACT: Doug Epperly, Project Coordinator, at (406) 657-6205 ext. 225.

SUPPLEMENTARY INFORMATION: Purpose and Need for Action: The purpose of the proposal is to designate a system of roads, trails, and areas for public motorized use (excluding over-the-snow travel) on the District, while minimizing the adverse resource impacts of those designations. The system of roads, trails, and areas to be designated will be consistent with the laws, regulations, and policies governing the management of National Forest System lands. Specifically, this includes the Forest Service's 2005 Motorized Travel Management Rule (36 CFR 212); the 2001 Off-Highway Vehicle Record of Decision and Plan Amendment for Montana, North Dakota, and Portions of South Dakota (hereafter Tri-State OHV Plan); the subsequent Forest Plan Amendment Number 39; the 1992 Ashland Travel Plan; and the Custer National Forest and National Grasslands Land and Resource Management Plan (hereafter referred to as the Forest Plan, 1986).

The Chief of the Forest Service, in response to public comments on the 2005 Motorized Travel Rule, established timeframes for completing the route designation process nationally, including completing the District route designation by the end of September 2009.

Proposed Action. The proposed action is to designate roads, trails, and areas open to public motorized use, designate dispersed vehicle camping, and identify routes necessary for administrative use on the District (NFS lands). The route, trail, and area designations will also set specific seasons of use, where appropriate, and specify the type of vehicle use (e.g., highway legal vehicle, ATVs). The Forest Service will produce a Motor Vehicle Use Map (MVUM) depicting those routes which are open to the general public for motorized use.

No Action Alternative. The No Action alternative would be to designate the current District system motorized roads for public motorized use, but would not address existing unauthorized (i.e., non-system) routes or the lack of legal public right-of-way access for roads that cross private lands. A National Environmental Policy Act (NEPA) decision is not required to designate roads, trails, and areas for public motorized use that are currently part of the National Forest System of roads, trails and areas. Alternatives to the Proposed Action and No Action will depict differing combinations of routes to remain open to motorized travel.

A consequence of the no action alternative is that the existing non-system routes currently being used would not be available for public motorized use. Decommissioning or obliterating these routes, which may involve ground disturbing activities, is not a part of the Proposed Action or alternatives, and would generally require separate and site specific NEPA decisions regarding the implementation aspects of road closures. The environmental consequences of having routes closed to motorized travel will be evaluated in this environmental analysis.

Identification of new routes that would meet the goals and objectives for a motorized transportation system on NFS lands will not be a part of this travel management planning effort, but may be identified as an opportunity and would require separate, site-specific NEPA decisions to implement ground disturbing activities associated with new route construction.

Responsible Official: The Responsible Official is Steve E. Williams, Forest Supervisor, Custer National Forest, 1310 Main Street, Billings, MT 59105.

Nature of Decisions To Be Made: Based on the purpose and need for the proposed action, the Forest Supervisor will evaluate the Proposed Action and other alternatives in order to make the following decisions for the specific National Forest System lands:

• Determine any non-system routes that should be converted to system roads or trails;

• Determine the roads, trails, and areas that should be designated for public motorized travel; and,

• Determine the season and/or type of use for those routes open to public motorized travel; and,

• Determine if change in the extent and nature of dispersed vehicle camping is warranted.

Scoping Process: Public scoping was initiated November 26, 2007 and was concluded January 25, 2008. Public meetings were held in Ashland, Broadus, Miles City, and Billings, Montana in December 2007 to discuss the scoping document. The Forest Service received over 60 letters, personal comments, or phone calls.

The Forest Service has considered all public scoping comments and concerns that have been submitted, as well as resource related input from the interdisciplinary team and other agency resource specialists. This input will be used to identify issues to consider in the environmental analysis. A comprehensive list of key issues will be determined before the full range of alternatives is developed and the environmental analysis is begun.

Persons and organizations commenting during the initial scoping will remain on the mailing list for future information about Ashland Ranger District Travel Management Planning.

The Responsible Official has determined that an Environmental Impact Statement is the appropriate NEPA document for this analysis.

Comments Requested: Given that scoping has been conducted and that public meetings have been conducted, comments are not being requested at this time.

Early Notice of Importance of Public Participation in Subsequent Environmental Review: A draft environmental impact statement will be prepared for public comment. The comment period on the draft environmental impact statement will be 45 days from the date that the Environmental Protection Agency (EPA) publishes the notice of availability in the Federal Register.

Written comments are preferred and should include the name and address of the commenter. Comments submitted for this proposed action will be considered part of the public record.

The Forest Service believes it is important to give reviewers notice of several court rulings related to public participation in the environmental review process. Reviewers of draft environmental impact statements must structure their participation in the review of the proposal so that it is meaningful and alerts an agency to the reviewer's position and contentions (Vermont Yankee Nuclear Power Corp. v. NRDC, 435 US. 519, 553 (1978)). Also, environmental objections that could be raised at the draft environmental impact statement stage but that are not raised until after completion of the final environmental impact statement may be waived or dismissed by the courts (City of Angoon v. Hodel, 803 F.2d 1016, 1022 (9th Cir. 1986) and Wisconsin Heritages Inc. v. Harris, 409 F. Supp. 1334, 1338 (E.D. Wis. 1980)). Because of these court rulings, it is very important those interested in this proposed action participate by the close of the 45-day comment period so that substantive comments and objections are made available to the Forest Service at the time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternative formulated and discussed in the statement. Reviewers may wish to refer to the Council on Environmental Quality Regulations for implementing the procedural provisions of the National Environmental Policy Act at 40 CFR 1503.3 in addressing these points.

Dated: August 29, 2008.
Steve E. Williams,
Forest Supervisor.

[FR Doc. E8-20586 Filed 9-4-08; 8:45 am]

BILLING CODE 3410-11-M